ELECTION ASSISTANCE COMMISSION

Publication of State Plan Pursuant to the Help America Vote Act

AGENCY: Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plan previously submitted by Delaware.

DATES: This notice is effective upon publication in the Federal Register.

FOR FURTHER INFORMATION CONTACT: Bryan Whitener, Telephone 202-566-3100 or 1-866-747-1471 (toll-free).

Submit Comments: Any comments regarding the plan published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates.

The submission from Delaware addresses material changes in the administration of the previously submitted State plan and, in accordance with HAVA section 254(a)(12), provides information on how the State succeeded in carrying out the previous State plan. The current submission from Delaware addresses a material change to the budget of the previously submitted State plan to address how the State will utilize the fiscal year 2004 requirements payments made in accordance with HAVA section 251.

Upon the expiration of thirty days from October 27, 2005, Delaware will be eligible to implement the material changes addressed in the plan that is published herein, in accordance with HAVA section 254(a)(11)(C). At that time, in accordance with HAVA section 253(d), Delaware may file a statement of certification to obtain a fiscal year 2004 requirements payment. This statement of certification must confirm that the State is in compliance with all of the requirements referred to in HAVA section 253(b) and must be provided to the Election Assistance Commission in order for the State to receive a requirements payment under HAVA Title II, Subtitle D.

EAC notes that the plan published herein has already met the notice and comment requirements of HAVA section 256, as required by HAVA section 254(a)(11)(B). EAC wishes to acknowledge the effort that went into revising the State plan and encourages further public comment, in writing, to the State election official listed below.

Chief State Election Officials

Delaware

Mr. Frank Calio, State Election Commissioner, 111 S. West Street, Suite 10, Dover, DE 19904, Phone: 302-739-4277, Fax: 302-739-6794, e-mail: coe_vote@state.de.us.

Thank you for your interest in improving the voting process in America.

Dated: October 21, 2005.
Gracia M. Hillman,
Chair, Election Assistance Commission.

BILLING CODE 6820-KF-P

[FR Doc. 05-21421 Filed 10-26-05; 8:45 am]

BILLING CODE 6820-KF-C